FEDERAL MARITIME COMMISSION

Notice of Agreements Filed

The Commission hereby gives notice of the filing of the following agreement under the Shipping Act of 1984. Interested parties may submit comments on the agreements to the Secretary by email at Secretary@fmc.gov, or by mail, Federal Maritime Commission, Washington, DC 20573, within twelve days of the date this notice appears in the Federal Register. Copies of agreements are available through the Commission's website (www.fmc.gov) or by contacting the Office of Agreements at (202) 523-5793 or tradeanalysis@fmc.gov.

Agreement No.: 201288-001.

Agreement Name: Digital Container Shipping Association Agreement.

Parties: Maersk Line A/S; Hapag-Lloyd AG; CMA CGM S.A.; MSC Mediterranean Shipping Company S.A.; Ocean Network Express Pte. Ltd.; Hyundai Merchant Marine Co., Ltd.; ZIM Integrated Shipping Services Ltd.; Yang Ming Marine Transport Corp.; Evergreen Marine Corp. (Taiwan) Ltd.

Filing Party: Wayne Rohde; Cozen O'Connnor.

Synopsis: The amendment adds Evergreen Marine Corp. (Taiwan) Ltd., Hyundai Merchant Marine Co., Ltd; Yang Ming Marine Transport Corp., and Zim Integrated Shipping Services Ltd. as parties to the Agreement. It also clarifies the authority contained in Article 5.2(c) of the Agreement.

Proposed Effective Date: 7/4/2019.

Location: https://www2.fmc.gov/FMC.Agreements.Web/Public/AgreementHistory/21328.

Agreement No.: 010071-047.

Agreement Name: Cruise Lines International Association.

Parties: Acromas Shipping Ltd./SAGA Shipping; AIDA Cruises; Aurora Expeditions; Azamara Cruises; Carnival Cruise Lines; Celebrity Cruises; Celestyal Cruises; Coral Expeditions; Costa Cruise Lines; Crystal Cruises; Cunard Line; Disney Cruise Line; Dream Cruises Management Ltd.; Fred Olsen; Hapag-Lloyd Kreuzfahrten GmbH; Holland America Line; Marella Cruisec/o TUI Group; MSC Cruises; Mystic Cruises; NCL Corporation; Oceania Cruises; P&O Cruises; P&O Cruises Australia; Pearl Sea Cruises; Ponant Yacht Cruises & Expeditions; Princess Cruises; Pullmantur Cruises Ship Management Ltd.; Regent Seven Seas Cruises; Royal Caribbean International; Scenic Luxury Cruises & Tours; Seabourn Cruise Line; Seadream Yacht Club; Silversea Cruises, Ltd.; Star Cruises (HK) Limited; TUI Cruises GmbH; Virgin Voyages; and Windstar Cruises.

Filing Party: Carolyn Kaye; Kaye, Rose & Partners, LLP.

Synopsis: The amendment updates the membership of the Agreement and makes administrative changes to the Agreement.

Proposed Effective Date: 7/1/2019.

Location: https://www2.fmc.gov/FMC.Agreements.Web/Public/AgreementHistory/999.

Dated: May 24, 2019.
Rachel E. Dickon,
Secretary.

[FR Doc. 2019-11329 Filed 5-30-19; 8:45 am]

BILLING CODE 6731-AA-P